DEPARTMENT OF COMMERCE

National Oceanic and Atmospheric Administration

[RTID 0648-XC341]

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a meeting of the Highly Migratory Species Management Team (HMSMT).

DATES: The meeting will be held Wednesday, October 12, 2022, through Friday, October 14, 2022, starting at 9 a.m. PT each day. Meeting times are an estimate, meetings will end when business for the day has been completed.

ADDRESSES:

Meeting address: The meeting will be held in the Pacific Room at the National Marine Fisheries Service Southwest Fisheries Science Center, 8901 La Jolla Shores Dr., La Jolla, CA 92037.

Council address: Pacific Fishery Management Council, 7700 NE Ambassador Place, Suite 101, Portland, OR 97220-1384.

FOR FURTHER INFORMATION CONTACT: Dr. Kit Dahl, Pacific Council; telephone: (503) 820-2422.

SUPPLEMENTARY INFORMATION: The principal purpose of this meeting is to discuss and prepare analyses supporting Council action on hard caps for the California large mesh driftnet (DGN) fishery. This action would establish hard caps (i.e., limits) on the number of observed mortalities/injuries of nine high priority protected species identified by the Council. Hard caps may apply to individual vessels or the fishery as a whole. If a limit is met or exceeded, both the observed vessel and any vessels determined to be unobservable would stop fishing, or the DGN fishery as a whole, would close for a prescribed time period. At its June 2022 meeting, the Council chose a range of alternatives for a hard caps fishery management regime to support further consideration of the action. The HMSMT will also discuss ongoing work to reevaluate the definition of essential fish habitat described in the HMS Fishery Management Plan, other relevant items on the agenda of the November 2022 Council meeting, and future HMSMT work on tasks assigned to it by the Council. A meeting agenda will be posted to the Council website at least one week before the start of the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The public listening station is physically accessible to people with disabilities. Requests for sign language interpretation or other auxiliary aids should be directed to Mr. Kris Kleinschmidt (kris.kleinschmidt@noaa.gov; (503) 820-2412) at least 10 days prior to the meeting date.

Authority: 16 U.S.C. 1801 et seq.

Dated: September 20, 2022.
Rey Israel Marquez,
Acting Deputy Director, Office of Sustainable Fisheries, National Marine Fisheries Service.

[FR Doc. 2022-20658 Filed 9-22-22; 8:45 am]

BILLING CODE 3510-22-P